DEPARTMENT OF HEALTH AND HUMAN SERVICES

Centers for Disease Control and Prevention

[60Day-06-06AM]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-4766 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Intimate Partner Violence (IPV) National Media Campaign—Choose Respect—Renewal—National Center for Injury Prevention and Control (NCIPC), Centers for Disease Control and Prevention (CDC).

Background and Brief Description

Intimate partner and sexual violence is a significant problem in the United States. According to the National Violence against Women Survey, an intimate partner physically assaults or rapes approximately 1.5 million women and 850,000 men in the United States each year. Many more individuals are subjected to threats of violence and psychological and emotional abuse. Alarmingly, intimate partner violence (IPV) behaviors are manifested in youth populations. The literature suggests that attitudes and behaviors can be shaped and reinforced more easily and more effectively as individuals are developing in youth than after they have been firmly established. To begin to address IPV and sexual violence in youth populations, the CDC's NCIPC has developed a media campaign entitled, “Choose Respect.” The campaign targets prevailing norms that support victimization and perpetration of violence against women. Because attitudes and behaviors related to IPV begin to manifest early on, CDC will focus its efforts on early adolescents, and on the people who influence them.

This project will implement and evaluate the Choose Respect Campaign in a national roll-out in twelve states: Arizona, California, Connecticut, Illinois, Indiana, Michigan, Minnesota, New York, North Carolina, Texas, Washington, and Washington D.C. The campaign will target youth as the primary audience and parents and teachers as secondary audiences. A baseline and post-campaign survey will be conducted with adolescents, their parents and their teachers to determine outcomes of the campaign including attitudes, beliefs and intended behaviors toward IPV and sexual violence both before and after implementation of the campaign. The baseline information collected prior to the campaign launch will assist CDC in tailoring the communication materials to each of the middle schools and community groups selected from the target markets. The evaluation will then utilize these baseline measures along with the information collected following implementation to assess the campaign's success at decreasing IPV-tolerant attitudes, increasing the identification of appropriate ways to respond in situations that could lead to IPV, and increasing the awareness of resources to help facilitate discussions about appropriate dating behavior.

The pre-post research design of this campaign evaluation will aid CDC in assessing the changes in attitudes, beliefs and behaviors associated with the campaign.

The goal of CDC's Media Campaign, Choose Respect, is to increase the perception among adolescents that any form of violence between intimate partners, whether physical, verbal or sexual is considered inappropriate and unacceptable. There is no cost to respondents other than their time.

Estimated Annualized Burden Table
Respondents | Number of respondents | Number of responses/respondent | Average burden/response (in hours) | Total burden hours
Teachers Baseline Survey | 600 | 1 | 15/60 | 150
Parents Baseline Survey | 6000 | 1 | 15/60 | 1500
Adolescents Baseline Survey | 6000 | 1 | 25/60 | 2500
Teachers Post-campaign Survey | 600 | 1 | 15/60 | 150
Parents Post-campaign Survey | 6000 | 1 | 15/60 | 1500
Adolescents Post-campaign Survey | 6000 | 1 | 25/60 | 2500
Total | 25,200 |  |  | 8300

Dated: December 7, 2005.
Joan F. Karr,
Acting Reports Clearance Officer, Centers for Disease Control and Prevention.

[FR Doc. E5-7378 Filed 12-14-05; 8:45 am]

BILLING CODE 4163-18-P